DEPARTMENT OF TRANSPORTATION

Federal Highway Administration

Environmental Impact Statement: City of Payson, Utah County, Utah

AGENCY: Federal Highway Administration (FHWA), DOT

ACTION: Notice of intent.

SUMMARY: The FHWA is issuing this notice to advise the public that an environmental impact statement (EIS) will be prepared for a proposed highway interchange improvement project in the City of Payson, Utah County, Utah.

FOR FURTHER INFORMATION CONTACT: Elizabeth Cramer, Area Engineer, Federal Highway Administration, 2520 West 4700 South, Suite 9A, Salt Lake City, Utah 84129, Email: elizabeth.cramer@dot.gov, Telephone: 801-955-3527 or Brandon Weston, Environmental Services Director, Utah Department of Transportation, 4501 South 2700 West, P.O. Box 148450, Salt Lake City, Utah 84114, Email: brandon.weston@utah.gov, Telephone: 801-965-4603.

SUPPLEMENTARY INFORMATION: The FHWA, in cooperation with the Utah Department of Transportation and the City of Payson, will prepare an EIS for proposed improvements to the Interstate 15 (I-15) Payson Main Street interchange. The 4.6-square-mile study area centers on I-15 Exit 251 in Payson. The western boundary generally follows the Union Pacific railroad tracks west of I-15 and 3550 West. The southern boundary parallels State Route (SR) 198 and the eastern boundary follows a northwest line across agriculture fields for approximately 2.3 miles until it crosses I-15. The northern boundary continues east along 1500 North before terminating west of Dixon Road along SR 115 (3200 West/Main Street).

This project will address such needs as (1) traffic operations and safety issues on the I-15 Main Street interchange; and (2) future transportation needs based on future growth projections and development.

The EIS will evaluate a reasonable range of alternatives for the interchange, as well as connections from the interchange to the adjacent local roadway network. Alternatives under consideration include, but are not limited to, the following: (1) Taking no action; (2) relocating the existing interchange; (3) modifying the existing interchange in its current location; and (4) any other feasible alternatives identified during the scoping process. The EIS will be developed pursuant to 23 U.S.C 139, 23 CFR 771, and 40 CFR 1500-1508. Completion of both the draft EIS and combined FEIS and ROD is expected in 2016.

A coordination plan is being developed to provide the framework for agency and public participation. Public involvement will occur throughout the development of the EIS and supporting environmental reports. These documents will be made available for review and comment by federal and state agencies and the public. In addition, a public hearing will be held after the completion of the draft EIS. Public notice will be given pertaining to the time and location of all public information meetings and hearings.

Questions or comments regarding this proposed action and the EIS can be sent to FHWA at the address provided above or at paysoneis@utah.gov. To ensure the full range of issues related to this proposed action are addressed and all significant issues identified, comments and suggestions are invited from all interested parties.

(Catalog of Federal Domestic Assistance Program Number 20.205, Highway Research, Planning and Construction. The regulations implementing Executive Order 12372 regarding intergovernmental consultation on Federal programs and activities apply to this program.)

Issued on: January 28, 2015.
Ivan Marrero,
Division Administrator, Salt Lake City, Utah.

[FR Doc. 2015-02047 Filed 2-2-15; 8:45 am]

BILLING CODE 4910-22-P